FEDERAL MARITIME COMMISSION

Ocean Transportation Intermediary License; Reissuance

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR Part 515.

License No. | Name/address | Date reissued
004379F | U.S.G.A. Logistic, Inc., 16206 Aldine Westfield Road Houston, TX 77032 | March 15, 2010.
004553F | Marianas Steamship Agencies, Inc. dba MSA Logistics, Commercial Port Annex, 2nd Floor, 1010 Cabras Highway Piti, Guam 96915 | March 4, 2010.
018413NF | Chicago Int'l Forwarder Incorporated, 423 East Irving Park Road, Wood Dale, IL 60191 | February 11, 2010.
019908NF | International Trade Management Group, LLC dba Patriot Lines, dba ITM Logistics, 611 Live Oak Drive, McLean, VA 22101 | February 21, 2010.

Sandra L. Kusumoto,
Director, Bureau of Certification and Licensing.

[FR Doc. 2010-9224 Filed 4-21-10; 8:45 am]

BILLING CODE P